DEPARTMENT OF COMMERCE

International Trade Administration

[A-427-001]

Sorbitol from France: Final Results of Expedited Five-year (Sunset) Review of Antidumping Duty Order

AGENCY: Import Administration, International Trade Administration, Department of Commerce.

SUMMARY: On July 1, 2009, the Department of Commerce (the Department) initiated a sunset review of the antidumping duty order on sorbitol from France pursuant to section 751(c) of the Tariff Act of 1930, as amended (the Act). On the basis of a notice of intent to participate and adequate substantive responses filed on behalf of domestic interested party, and the lack of a response from respondent interested parties, the Department conducted an expedited (120-day) sunset review of this antidumping duty order. As a result of this sunset review, the Department finds that revocation of the antidumping duty orders would be likely to lead to continuation or recurrence of dumping at the levels identified below in the “Final Results of Sunset Review” section of this notice.

EFFECTIVE DATE: November 3, 2009.

FOR FURTHER INFORMATION: David Cordell, AD/CVD Operations, Office 7, or Dana Mermelstein, AD/CVD Operations, Office 6, Import Administration, International Trade Administration, U.S. Department of Commerce, 14th Street and Constitution Avenue, NW, Washington, DC 20230; telephone: (202) 482-0408, or (202) 482-1391, respectively.

SUPPLEMENTARY INFORMATION:

Background

On July 1, 2009, the Department initiated a sunset review of the antidumping duty order on sorbitol from France pursuant to section 751(c) of the Act. See Initiation of Five-year (Sunset) Reviews, 74 FR 31412 (July 1, 2009). The Department received a notice of intent to participate from one domestic interested party, Archer Daniels Midland Company (ADM) within the deadline specified in section 351.218(d)(1)(i) of the Department's regulations.¹ A second domestic interested party, Corn Products International (Corn Products) filed its intent to participate on July 22, 2009, a week after the regulatory deadline. Further, Corn Products filed comments on July 31, 2009. The Department rejected Corn Products' filings as untimely on August 11, 2009. See Letter to Corn Products, dated August 11, 2009.

ADM claimed interested party status under section 771(9)(C) of the Act as U.S. producers of the subject merchandise. On July 31, 2009, the Department received complete substantive responses from ADM within the 30-day deadline specified in 19 CFR 351.218(d)(3)(ii). However, the Department received no substantive responses from respondent interested parties.² As a result, pursuant to section 751(c)(3)(B) of the Act and 19 CFR. 351.218(e)(1)(ii)(C)(2), the Department has conducted an expedited sunset review of this order.

¹ Counsel for ADM notified the Department by telephone that ADM intended to participate in this proceeding and requested that ADM be permitted to file its notification one day after the regulatory deadline of July 16, 2009. The Department acceded to this request and accepted ADM's notice of intent, filed on July 17, 2009. See Memorandum to the file from Dana S. Mermelstein dated July 21, 2009.

² Roquette Freres, a respondent interested party, made a submission to the Department on August 17, 2009, containing comments on the notices of intent to participate by domestic interested parties. See Issues and Decision Memorandum for details. ADM filed comments in response to Roquette Freres on August 18, 2009 and on September 1, 2009, ADM filed comments on the Adequacy of Responses and Appropriateness of an Expedited Review.

Scope of the Orders

The products covered by this order are shipments of crystalline sorbitol (sorbitol), a polyol produced by the hydrogenation of sugars (glucose), used in the production of sugarless gum, candy, groceries, and pharmaceuticals. The above-described sorbitol is classified under HTS subheading 2905.44.00. The HTS subheading is provided for convenience and for customs purposes. The written description remains dispositive.

Analysis of Comments Received

All issues raised in this case are addressed in the “Issues and Decision Memorandum” from Richard Weible, Director Office 7 to John M. Andersen, Acting Deputy Assistant Secretary for AD/CVD Operations, Import Administration, dated October 28, 2009, (Decision Memorandum), which is hereby adopted by this notice. The issues discussed in the Decision Memorandum include the likelihood of continuation or recurrence of dumping and the magnitude of the margin likely to prevail if the order was revoked. Parties can find a complete discussion of all issues raised in this sunset review and the corresponding recommendations in this public memorandum, which is on file in room 1117 of the main Department building.

In addition, a complete version of the Decision Memorandum can be accessed directly on the Internet at http://ia.ita.doc.gov/frn/. The paper copy and electronic version of the Decision Memorandum are identical in content.

Final Results of Sunset Reviews

The Department has determined that revocation of the antidumping duty order on sorbitol from France would likely lead to continuation or recurrence of dumping at the following percentage weighted-average margins:

Manufacturers/Exporters/Producers | Weighted-Average Margin (Percent)
Roquette Freres | 2.90 percent
All Others | 2.90 percent

This notice serves as the only reminder to parties subject to administrative protective orders (APO) of their responsibility concerning the return or destruction of proprietary information disclosed under APO in accordance with 19 CFR 351.305. Timely notification of the return or destruction of APO materials or conversion to judicial protective order is hereby requested. Failure to comply with the regulations and terms of an APO is a violation which is subject to sanction.

The Department is issuing and publishing these results and this notice in accordance with sections 751(c), 752, and 777(i)(1) of the Act.

Dated: October 28, 2009.
John M. Andersen,
Acting Deputy Assistant Secretary for Antidumping and Countervailing Duty Operations.

[FR Doc. E9-26427 Filed 11-2-09; 8:45 am]

BILLING CODE 3510-DS-S